DEPARTMENT OF DEFENSE

Office of the Secretary

[Docket ID: DOD-2011-OS-0068]

Privacy Act of 1974; Systems of Records

AGENCY: Defense Logistics Agency, DoD.

ACTION: Notice To Amend a System of Records.

SUMMARY: The Defense Logistics Agency proposes to amend a system of records notice in its existing inventory of records systems subject to the Privacy Act of 1974, (5 U.S.C. 552a), as amended.

DATES: This proposed action will be effective without further notice on July 25, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jody Sinkler, Privacy Act Officer, Headquarters, Defense Logistics Agency, ATTN: DGA, 8725 John J. Kingman Road, Stop 16443, Fort Belvoir, VA 22060-6221 or by phone at (703) 767-5045.

SUPPLEMENTARY INFORMATION: The Defense Logistics Agency systems of records notices subject to the Privacy Act of 1974, (5 U.S.C. 552a), as amended, have been published in the Federal Register and are available from the address above. The proposed system reports, as required by 5 U.S.C. 552a (r), of the Privacy Act of 1974, as amended, were submitted on February 25, 2011, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: June 17, 2011.
Aaron Siegel,
Alternate OSD Federal Register Liaison Officer, Department of Defense.

S190.10

System name:

DLA Hometown News Releases (April 30, 2009, 74 FR 19939).

Changes:

* * * * *

System location:

Delete entry and replace with “Defense Logistics Agency Headquarters, Public Affairs Office, 8725 John J. Kingman Road, Stop 2533, Fort Belvoir, VA 22060-6221, and the Public Affairs Offices of the Defense Logistics Agency (DLA) Primary Level Field Activities. Official mailing addresses are published as an appendix to DLA's compilation of systems of records notices.”

* * * * *

Categories of records in the system:

Delete “last five digits of Social Security Number” from entry.

Authority for maintenance of the system:

Delete entry and replace with “5 U.S.C. 301, Departmental Regulations and 10 U.S.C. 136, Under Secretary of Defense for Personnel and Readiness.”

* * * * *

System manager(s) and address:

Delete entry and replace with “Director, DLA Public Affairs Office, Defense Logistics Agency Headquarters, 8725 John J. Kingman Road, Stop 2533, Fort Belvoir, VA 22060-6221, and the Heads of the Public Affairs Offices within each DLA Primary Level Field Activity. Official mailing addresses are published as an appendix to DLA's compilation of systems of records notices.”

Notification procedure:

Delete entry and replace with “Individuals seeking to determine whether this system of records contains information about themselves should address written inquiries to the DLA FOIA/Privacy Act Office, Headquarters, Defense Logistics Agency, ATTN: DGA, 8725 John J. Kingman Road, Suite 1644, Fort Belvoir, VA 22060-6221.

Written inquiry must contain the subject individual's full name, current address, and telephone number.”

Record access procedures:

Delete entry and replace with “Individuals seeking access to information about themselves contained in this system of records should address written inquiries to the DLA FOIA/Privacy Act Office, Headquarters, Defense Logistics Agency, ATTN: DGA, 8725 John J. Kingman Road, Suite 1644, Fort Belvoir, VA 22060-6221.

Written inquiry must contain the subject individual's full name, current address, and telephone number.”

Contesting record procedures:

Delete entry and replace with “The DLA rules for accessing records, for contesting contents and appealing initial agency determinations are contained in 32 CFR Part 323, or may be obtained from the DLA FOIA/Privacy Act Office, Headquarters, Defense Logistics Agency, ATTN: DGA, 8725 John J. Kingman Road, Suite 1644, Fort Belvoir, VA 22060-6221.”

Record source categories:

Delete entry and replace with “Information is obtained from the subject individual.”

* * * * *

S190.19

System name:

DLA Hometown News Releases.

System location:

Defense Logistics Agency Headquarters, Public Affairs Office, 8725 John J. Kingman Road, Stop 2533, Fort Belvoir, VA 22060-6221, and the Public Affairs Offices of the Defense Logistics Agency (DLA) Primary Level Field Activities. Official mailing addresses are published as an appendix to DLA's compilation of systems of records notices.

Categories of individuals covered by the system:

DLA military and civilian employees who request a Hometown News Release.

Categories of records in the system:

Information is submitted electronically using the Joint Hometown News Service Defense Media Activity Web page; and includes name, local address, branch of service, status, rank, pay grade, gender, newsworthy event, marital status, names and addresses of relatives (parents, stepparents, guardians, aunts/uncles, grandparents, and adult siblings), present unit of assignment, job title, years of military service, education data, and photographs.

Authority for maintenance of the system:

5 U.S.C. 301, Departmental Regulations and 10 U.S.C. 136, Under Secretary of Defense for Personnel and Readiness.

Purpose(s):

Information is collected and maintained for the purpose of distributing information on activities and accomplishments of DLA military and civilian personnel to hometown newspapers and broadcast stations throughout the United States using the Army and Air Force Hometown News Service. Release of this information is done with the individual's full cooperation and consent.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Information is released to hometown newspapers and broadcast stations throughout the United States using the Army and Air Force Hometown News Service for the purpose of showcasing the activities and accomplishments of the DLA military or civilian member.

The DoD “Blanket Routine Uses” apply to this system of records.

Policies and practices for storing, retrieving, accessing, retaining, and disposing of records in the system:

Storage:

Records are maintained on electronic storage media.

Retrievability:

Records are retrieved by individual's name.

Safeguards:

Records are maintained in a controlled facility. Physical entry is restricted by the use of locks, guards, and is accessible only to authorized personnel. Access to computerized data is restricted by passwords, which are changed periodically. Data sent by DLA Public Affairs Officers to the Army and Air Force Hometown News Service is via e-mail to an authorized DoD address. Access to records is limited to person(s) responsible for servicing the record in performance of their official duties and who are properly screened and cleared for need-to-know.

Retention and disposal:

Records are destroyed after 90 days.

System manager(s) and address:

Director, DLA Public Affairs Office, Defense Logistics Agency Headquarters, 8725 John J. Kingman Road, Stop 2533, Fort Belvoir, VA 22060-6221, and the Heads of the Public Affairs Offices within each DLA Primary Level Field Activity. Official mailing addresses are published as an appendix to DLA's compilation of systems of records notices.

Notification procedure:

Individuals seeking to determine whether this system of records contains information about themselves should address written inquiries to the DLA FOIA/Privacy Act Office, Headquarters, Defense Logistics Agency, ATTN: DGA, 8725 John J. Kingman Road, Suite 1644, Fort Belvoir, VA 22060-6221.

Written inquiry must contain the subject individual's full name, current address, and telephone number.

Record access procedures:

Individuals seeking access to information about themselves contained in this system of records should address written inquiries to the DLA FOIA/Privacy Act Office, Headquarters, Defense Logistics Agency, ATTN: DGA, 8725 John J. Kingman Road, Suite 1644, Fort Belvoir, VA 22060-6221.

Written inquiry must contain the subject individual's full name, current address, and telephone number.

Contesting record procedures:

The DLA rules for accessing records, for contesting contents and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Information is obtained from the subject individual.

Exemptions claimed for the system:

None.

[FR Doc. 2011-15775 Filed 6-23-11; 8:45 am]

BILLING CODE 5001-06-P